DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: International Dolphin Conservation Program.

OMB Control Number: 0648-0387.

Form Number(s): None.

Type of Request: Emergency revision of a currently approved information collection. Per the Paperwork Reduction Act regulations, 5 CFR 1320.13, we believe that use of this emergency process is essential to the mission of the agency. NOAA finds good cause to issue this interim final rule without advance notice in a proposed rule, and to make the rule effective immediately without providing a 30-day delay, because the limited time available to the United States to come into compliance with its World Trade Organization obligations makes advance notice and comment or delaying the effectiveness contrary to the public interest. Furthermore, because this interim final rule involves a foreign affairs function of the United States, the procedural requirements of the Administrative Procedure Act, 5 U.S.C. 553, are not applicable. However, NMFS will consider public comments on this interim final rule and issue a final rule.

Number of Respondents: 144.

Average Hours per Response: 30 minutes.

Burden Hours: This change would add an additional 130 responses per year at 30 minutes per response, or 65 hours, to the currently approve burden of 183 hours.

Needs and Uses: This is a request for comments on the proposed revision of OMB Control No. 0648-0387, in conjunction with Interim Final Rule 0648-BF73. The information collection currently approved under OMB Control No. 0648-0387 was developed to implement the International Dolphin Conservation Program Act (Act). The Act allows entry of yellowfin tuna into the United States (U.S.), under specific conditions, from nations in the International Dolphin Conservation Program that would otherwise be under embargo. The Act also allows U.S. fishing vessels to participate in the yellowfin tuna fishery in the eastern tropical Pacific Ocean on terms equivalent with the vessels of other nations. NOAA collects information to allow tracking and verification of dolphin-safe and non-dolphin-safe tuna products from catch through the U.S. market.

This revision will add the requirement that, for a fishing trip that begins on or after 60 days of the Interim Final Rule publishing date, related information may be selected for audit (at random or as a result of screening/targeting), and thus there may be a burden on the importer of record to locate and provide copies of supporting documentation. In some instances, NMFS may be able to complete an audit (verify the information about the harvest event and chain-of-custody) based on the information submitted via the Customs and Border Protectcion ACE portal. In other instances, NMFS may contact the importer of record to provide supporting documentation to corroborate the information submitted via the ACE portal.

Affected Public: Businesses and other for-profit organizations.

Frequency: On occasion.

Respondent's Obligation: Mandatory.

This information collection request may be viewed at reginfo.gov. Follow the instructions to view Department of Commerce collections currently under review by OMB.

Written comments and recommendations for the proposed information collection should be sent within 10 days of publication of this notice to OIRA_Submission@omb.eop.gov or fax to (202) 395-5806.

Dated: March 11, 2016.
Sarah Brabson,
NOAA PRA Clearance Officer.

[FR Doc. 2016-05984 Filed 3-16-16; 8:45 am]

BILLING CODE 3510-22-P